NEIGHBORHOOD REINVESTMENT CORPORATION

Sunshine Act Meetings

TIME AND DATE: 2:00 p.m., Thursday, February 15, 2024.

PLACE: 1255 Union Street NE, Suite 500, Washington, DC 20002.

STATUS: Parts of this meeting will be open to the public. The rest of the meeting will be closed to the public.

MATTERS TO BE CONSIDERED: Regular Board of Directors meeting.

The Interim General Counsel of the Corporation has certified that in her opinion, one or more of the exemptions set forth in the Government in the Sunshine Act, 5 U.S.C. 552b(c)(2) and (4) permit closure of the following portion(s) of this meeting:

• Executive (Closed) Session

Agenda

I. Call to Order

II. Sunshine Act Approval of Executive (Closed) Session

III. Executive Session: Report from CEO

IV. Executive Session: Report from CFO

V. Executive Session: GAO Workplan Update

VI. Executive Session: Report from Interim General Counsel

VII. Executive Session: Report from CIO

VIII. Action Item: Approval of Meeting Minutes—November 29 Audit Committee and December 18 Regular Board Meeting

IX. Action Item: Resolution of Recognition of Service for Board Member Rodney Hood

X. Action Item: Election of General Counsel

XI. Action Item: Ratification of Audit Committee Action on GAO Recommendation #10: Revision to Internal Audit Reports

XII. Action Item: Delegation of Authority for NTI Hotel and Venue Contracts

XIII. Discussion Item: Overview of Organizational Culture Efford

XIV. Management Program Background and Updates

Other Reports

a. 2024 Board Calendar

b. 2024 Board Agenda Planner

c. CFO Report

i. Financials (through 11/30/23)

ii. Single Invoice Approvals $100K and over

iii. Vendor Payments $350K and over

iv. Exceptions

d. Programs Dashboard

e. Housing Stability Counseling Program (HSCP)

f. Strategic Plan Scorecard—FY23 Q4 (with Q4 production)

Portions Open to the Public: Everything except the Executive (Closed) Session.

Portions Closed to the Public: Executive (Closed) Session.

CONTACT PERSON FOR MORE INFORMATION: Jenna Sylvester, Paralegal, (202) 568-2560; jsylvester@nw.org.

Jenna Sylvester,
Paralegal.

[FR Doc. 2024-02868 Filed 2-8-24; 11:15 am]

BILLING CODE P